DEPARTMENT OF DEFENSE

Department of the Army

Availability of the Draft Finding of No Significant Impact and Final Programmatic Environmental Assessment for Army 2020 Force Structure Realignment

AGENCY: Department of the Army, DoD.

ACTION: Notice of availability.

SUMMARY: The Department of the Army announces the availability of the draft Finding of No Significant Impact (FNSI) and final Programmatic Environmental Assessment (PEA) for Army force structure realignments that may occur from Fiscal Years (FYs) 2013-2020. The Army must achieve force reductions as it transitions from major combat operations in Iraq and Afghanistan, while reducing spending without sacrificing critical national defense capabilities. The draft FNSI considers a proposed action under which the Army's active duty end-strength would be reduced from 562,000 at the end of FY 2012 to 490,000 by FY 2020. The PEA analyzes two action alternatives: Alternative 1: Implement force reductions by inactivating a minimum of eight Brigade Combat Teams (BCTs) and realign other combat, combat support, and service support units between FY 2013 and FY 2020; and Alternative 2: Implement Alternative 1, inactivate additional BCTs, and reorganize remaining BCTs by adding an additional combat maneuver battalion and other units. The PEA also analyzes a No Action alternative under which the Army would not reduce the size of the force. The draft FNSI incorporates the PEA which does not identify any significant environmental impacts associated with either alternative, with the exception of socioeconomic impacts at some installations where a BCT is inactivated and smaller organizations realigned. The draft FNSI concludes that preparation of an Environmental Impact Statement (EIS) is not required. Final decisions as to which installations will see BCTs inactivated or units realigned have not been made. Additional site-specific NEPA analysis may be required at some installations, depending on the size of the force realignment.

DATES: Submit comments on or before February 19, 2013.

ADDRESSES: Written comments should be sent to: Public Comments USAEC, Attention: IMPA-AE (Army 2020 PEA), 2450 Connell Road (Bldg 2264), Fort Sam Houston, Texas 78234-7664; or by email to USARMY.JBSA.AEC.MBX@mail.mil.

FOR FURTHER INFORMATION CONTACT: (210) 466-1590 or email: USARMY.JBSA.AEC.MBX@mail.mil.

SUPPLEMENTARY INFORMATION: Implementation of Army force realignment will occur over the course of several years to arrive by 2020 at an optimally configured force, reduced from an FY 2012 authorized end strength of 562,000 to 490,000. Reductions in Army Soldiers will also be accompanied by some reduction in civil service employees. These actions are being undertaken to reshape the Army's forces to meet more effectively national security requirements while reducing the Army's end-strength. Force realignment and some level of force reduction will impact most major Army installations. The implementation of this force rebalancing is necessary to allow the Army to operate in a reduced budget climate, while ensuring the Army can continue to support the nation's critical defense missions.

The PEA, upon which the draft FNSI is based, evaluates the largest potential force reduction scenarios, as well as growth scenarios from BCT restructuring, that could occur at select installations as a result of Army force restructuring. This range of potential installation reduction and growth (ranging from maximum losses of 8,000 military personnel to maximum increases of 3,000 at the Army's largest installations) was chosen for the environmental analysis to provide flexibility as future force structure realignment decisions are made; the specific locations where changes will occur have not been decided.

The PEA provides information to decision makers concerning potential environmental impacts, to include socioeconomic impacts, associated with stationing actions as these decisions are made in the coming years. The PEA analyzed the direct, indirect, and cumulative environmental impacts that may occur at 21 installations. These stationing sites were included in the PEA as they are sites that could experience a change in Soldiers and civilians that exceeds a total of 1,000 military personnel. The PEA analyzes the environmental impact of two Action alternatives to implement force reduction and realignment: Alternative 1: Implement Army force reductions and restructuring of BCTs, combat support units, and civilian support between FY 2013 and FY 2020; and Alternative 2: Implement Alternative 1, inactivate additional BCTs and also restructure remaining BCTs by adding an additional combat maneuver battalion and/or an engineer battalion. Force reductions that may occur as part of the proposed action include the inactivation of BCTs and combat support and combat service support units at Army and joint base installations. This reduction would include the inactivation of at least eight BCTs. In addition to these alternatives, the Army also evaluated a No Action alternative. The No Action alternative continues current force structure, and retains the active Army at the FY 2012 authorized end strength of 562,000. The No Action alternative allows for a comparison of baseline conditions with the environmental impacts of each of the two Action alternatives.

Environmental impacts associated with implementation of the two Action alternatives include impacts to air quality; airspace; cultural and biological resources; noise; soil erosion; wetlands; water resources; facilities; socioeconomics; energy demand; land use; hazardous materials and waste; and traffic and transportation. No significant environmental impacts are anticipated as a result of implementing either alternative associated with the proposed action, with the exception of socioeconomic impacts. Socioeconomic impacts are of particular concern to the Army because they affect communities around Army installations. Therefore, the PEA has a comprehensive analysis of the socioeconomic impacts to inform the decision makers and communities. Impacts could include reduced employment, income, regional population, and sales, and some of these impacts could be significant. An EIS is not required, however, when the only significant impacts are socioeconomic.

The draft FNSI finds that there are no significant environmental impacts with either Action alternative. Final decisions as to which alternative will be implemented or which installations will see reductions or unit realignments have not been made. Those decisions will be made based on mission-related criteria and other factors in light of the information contained in the PEA.

An electronic version of the PEA and draft FNSI is available for download at: http://aec.army.mil/usaec/nepa/topics00.html.

Brenda S. Bowen,
Army Federal Register Liaison Officer.

[FR Doc. 2013-01003 Filed 1-17-13; 8:45 am]

BILLING CODE 3710-08-P